DEPARTMENT OF HOUSING AND URBAN DEVELOPMENT

[Docket No. FR-5603-N-80]

Notice of Submission of Proposed Information Collection to OMB Electronic Stakeholder Survey—Office for International and Philanthropic Innovation

AGENCY: Office of the Chief Information Officer, HUD.

ACTION: Notice.

SUMMARY: The proposed information collection requirement described below has been submitted to the Office of Management and Budget (OMB) for review, as required by the Paperwork Reduction Act. The Department is soliciting public comments on the subject proposal.

The Electronic Stakeholder Survey is necessary to collect information for demonstrating the outputs and outcomes of meetings, conferences, and other activities presented by HUD's Office for International and Philanthropic Innovation (IPI). The Office for International and Philanthropic Innovation (IPI) supports HUD's efforts to find new solutions and align ideas and resources by working across public, private, and civil sectors to further HUD's mission. IPI works towards these goals by developing networks and facilitating collaboration of key partners and resources. To gather feedback on the various meetings, conferences, and other events and activities IPI presents, it is necessary to survey participants at both immediate and medium-term intervals. IPI is seeking to understand the effectiveness of these events in sharing information, connecting participants, establishing plans for coordination, and influencing programmatic, research, and funding agendas and resources. As we increase the effectiveness of these cross-sector convenings, HUD benefits from increased access to and synthesis of information regarding successes and failures in domestic and global housing and urban development. Residents and communities across the country also benefit from the increased impact achieved by alignment of cross-sector resources and ideas.

DATES: Comments Due Date: December 7, 2012.

ADDRESSES: Interested persons are invited to submit comments regarding this proposal. Comments should refer to the proposal by name and/or OMB approval Number (2528-New) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Electronic Stakeholder Survey-Office for International and Philanthropic Innovation.

OMB Approval Number: 2528-New.

Form Numbers: None.

Description of the need for the information and proposed use:

The Electronic Stakeholder Survey is necessary to collect information for demonstrating the outputs and outcomes of meetings, conferences, and other activities presented by HUD's Office for International and Philanthropic Innovation (IPI). The Office for International and Philanthropic Innovation (IPI) supports HUD's efforts to find new solutions and align ideas and resources by working across public, private, and civil sectors to further HUD's mission. IPI works towards these goals by developing networks and facilitating collaboration of key partners and resources. To gather feedback on the various meetings, conferences, and other events and activities IPI presents, it is necessary to survey participants at both immediate and medium-term intervals. IPI is seeking to understand the effectiveness of these events in sharing information, connecting participants, establishing plans for coordination, and influencing programmatic, research, and funding agendas and resources. As we increase the effectiveness of these cross-sector convenings, HUD benefits from increased access to and synthesis of information regarding successes and failures in domestic and global housing and urban development. Residents and communities across the country also benefit from the increased impact achieved by alignment of cross-sector resources and ideas.

| Number of respondents | Annual responses | × | Hours per response | = | Burden hours
Reporting Burden | 300 | 2 |  | 0.166 |  | 100

Total estimated burden hours: 100.

Status: New collection.

Authority: Section 3507 of the Paperwork Reduction Act of 1995, 44 U.S.C. 35, as amended.

Dated: November 1, 2012.
Colette Pollard,
Department Reports Management Officer, Office of the Chief Information Officer.

[FR Doc. 2012-27184 Filed 11-6-12; 8:45 am]

BILLING CODE 4210-67-P